DEPARTMENT OF HEALTH AND HUMAN SERVICES

National Institutes of Health

National Institute of Neurological Disorders and Stroke; Amended Notice of Meeting

Notice is hereby given of a change in the meeting of the National Advisory Neurological Disorders and Stroke Council, May 27, 2020, 12:30 p.m. to May 28, 2020, 01:00 p.m., National Institutes of Health, Neuroscience Center, Bethesda, MD, 20892 which was published in the Federal Register on October 18, 2019, 84FR55974.

The meeting notice is to change the meeting format from in person to video assisted meeting and to change the meeting times each day. The new meeting times are Wednesday, May 27, 2020, from 1 p.m. to 5 p.m. (open session) and Thursday, May 28, 2020, from 1 p.m. to 5 p.m. (closed session). The meeting is partially Closed to the public.

Visit NINDS homepage for more info: https://www.ninds.nih.gov/News-Events/Events-Proceedings/Events/National-Advisory-Council-NANDSC-Meeting-May-2020.

Open session will be videocast from this link: https://videocast.nih.gov/watch=36177.

Dated: April 17, 2020.
Tyeshia M. Roberson,
Program Analyst, Office of Federal Advisory Committee Policy.

[FR Doc. 2020-08683 Filed 4-23-20; 8:45 am]

BILLING CODE 4140-01-P